ENVIRONMENTAL PROTECTION AGENCY

[EPA-HQ-OAR-2008-0145; FRL-8576-9]

Agency Information Collection Activities; Submission to OMB for Review and Approval; Comment Request; National-Scale Activity Survey (N-SAS); EPA ICR No. 2293.01, OMB Control No. 2060-NEW

AGENCY: Environmental Protection Agency.

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before July 7, 2008.

ADDRESSES: Submit your comments, referencing Docket ID No. EPA-HQ-OAR-2008-0145, to (1) EPA online using www.regulations.gov (our preferred method), by e-mail to a-and-r-Docket@epa.gov, or by mail to: EPA Docket Center, Environnemental Protection Agency, Air and Radiation Docket and Information Center, 1200 Pennsylvania Ave., NW., Washington, DC 20460, and (2) OMB by mail to: Office of Information and Regulatory Affairs, Office of Management and Budget, Attention: Desk Officer for EPA, 725 17th Street, NW., Washington, DC 20503.

FOR FURTHER INFORMATION CONTACT: Zachary Pekar, Health and Environmental Impacts Division, Office of Air Quality Planning and Standards, U.S. Environmental Protection Agency, Mail Code C504-06, Research Triangle Park, NC 27711; telephone: 919-541-3704; fax: 919-541-0237; e-mail: pekar.zachary@epa.gov.

SUPPLEMENTARY INFORMATION: EPA has submitted the following ICR to OMB for review and approval according to the procedures prescribed in 5 CFR 1320.12. On February 28, 2008 (73 FR 10765), EPA sought comments on this ICR pursuant to 5 CFR 1320.8(d). EPA received no comments. Any additional comments on this ICR should be submitted to EPA and OMB within 30 days of this notice.

EPA has established a public docket for this ICR under Docket ID No. EPA-HQ\OAR-2008-0145, which is available for online viewing at www.regulations.gov, or in person viewing at the Air and Radiation Docket in the EPA Docket Center (EPA/DC), EPA West, Room 3334, 1301 Constitution Ave., NW., Washington, DC. The EPA/DC Public Reading Room is open from 8 a.m. to 4:30 p.m., Monday through Friday, excluding legal holidays. The telephone number for the Reading Room is 202-566-1744, and the telephone number for the Air and Radiation Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: National-Scale Activity Survey (N-SAS).

ICR numbers: EPA ICR No. 2293.01, OMB Control No. 2060-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA supports the Air Quality Index (AQI), a program that uses data from air quality monitors to forecast pollution levels and to notify the public of health hazards associated with air pollution, primarily ozone and particulate matter pollution (PM). EPA, specifically the Office of Air Quality Planning and Standards, which manages the AQI program, is interested in assessing the public's awareness, knowledge and both stated and actual behavioral response to AQI warnings. To address this need, OAQPS wishes to conduct the National-Scale Activity Surveys (N-SAS) to gather information on perceptions, awareness, attitudes, and stated and actual behaviors in response to AQI warnings.

EPA is requesting permission from OMB to conduct a survey of 1,600 individuals age 35 or older who meet minimal activity requirements living in Washington, DC; Sacramento (also other cities in San Joaquin Valley—San Joaquin, Stanislaus, Merced, Madera, Fresno), Chicago, Dallas, Houston, Atlanta, Philadelphia, or St. Louis. The data will be collected through a web-based survey of members from Knowledge Network's web panel.

The N-SAS consists of a series of nine surveys. A screening survey at the beginning and a debriefing survey at the end will provide information on the research participants, their awareness and knowledge of air pollution and the Air Quality Index (AQI), risk perceptions regarding health effects, and reported behaviors on high ozone days. After the screening survey, research participants will be administered a set of seven activity diaries administered on both high and low ozone days to collect information on actual behavior.

The information obtained from N-SAS will be used by EPA to assess hypotheses for the N-SAS research participants regarding:

• Extent of awareness of and knowledge about the AQI;

• The effects of the AQI-based warnings on behavior in eight cities with significant pollution problems;

• The correlation between awareness, knowledge, stated behavior on high pollution days and data on behavior reported in the activity diariesl;

• Differences in behavior, awareness and knowledge among different sub-samples of the N-SAS research participants.

In addition to assessing the effectiveness of AQI-based ozone warnings, the data will also be used to supplement the limited data available to develop exposure profiles for older Americans.

Participation in N-SAS and response to individual questions are voluntary. The respondents will be anonymous to EPA and contractor staff and Knowledge Networks keeps identify of respondents confidential.

Burden Statement: The annual public reporting and recordkeeping burden for this collection of information is estimated to average 0.25 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Members of the Knowledge Networks web panel (1) age 35 or older, (2) who respond yes to “During the past month, did you participate in any physical activities or exercises such as running, calisthenics, golf, gardening, or walking for exercise?” and (3) live in Washington, DC; Sacramento (also other cities in San Joaquin Valley—San Joaquin, Stanislaus, Merced, Madera, Fresno), Chicago, Dallas, Houston, Atlanta, Philadelphia, or St. Louis.

Estimated Number of Respondents: 1,600.

Frequency of Response: Up to 10 responses per respondent over 4 months.

Estimated Total Annual Hour Burden: 828 hours.

Estimated Total Annual Cost: $22,803, includes $0 annualized capital or O&M costs.

Dated: June 2, 2008.
Sara Hisel-McCoy,
Director, Collection Strategies Division.

[FR Doc. E8-12729 Filed 6-5-08; 8:45 am]

BILLING CODE 6560-50-P